DEPARTMENT OF STATE

[Public Notice 11938]

Designation of Osama Mehmood, Atif Yahya Ghouri, Muhammad Maruf, and Qari Amjad as Specially Designated Global Terrorists

Acting under the authority of and in accordance with section 1(a)(ii)(B) of E.O. 13224 of September 23, 2001, as amended by E.O. 13268 of July 2, 2002, E.O. 13284 of January 23, 2003, and E.O. 13886 of September 9, 2019, I hereby determine that the persons known as Osama Mehmood (also known as Usama Mahmud, Abu Zar, Atta Ullah, Zar Wali); Atif Yahya Ghouri (also known as Yahya Shoaib Ghauri, Qari Atif, Qari Ibrahim, Atif Ghauri); and Muhammad Maruf (also known as Ali Hamzah, Maulana Musanna, Maulana Ubaidullah) are leaders of al-Qa'ida in the Indian Subcontinent, and the person known as Qari Amjad (also known as Mufti Hazrat, Mufti Muzahim) is a leader of Tehrik-e Taliban Pakistan, groups whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224.

Dated: November 8, 2022.
Antony J. Blinken,
Secretary of State.

[FR Doc. 2022-27174 Filed 12-14-22; 8:45 am]

BILLING CODE 4710-AD-P